SOCIAL SECURITY ADMINISTRATION

Privacy Act of 1974, as Amended Alteration to Existing System of Records and New Routine Use Disclosure

AGENCY: Social Security Administration (SSA).

ACTION: Altered systems of records, including proposed new routine use.

SUMMARY: In accordance with the Privacy Act (5 U.S.C. 552a(e)(4) and (11)), we are issuing public notice of our intent to alter two existing systems of records, the Recovery of Overpayments, Accounting and Reporting, 60-0094 and the Supplemental Security Income Record and Special Veterans Benefits, 60-0103. The proposed alterations will result in the following changes to these two systems of records:

(1) Expansion of the categories of individuals covered by the systems to include former beneficiaries and representative payees of Social Security payments and former recipients of Supplemental Security Income (SSI) payments who received an overpayment and owe a delinquent debt to the SSA;

(2) Expansion of the purposes for which SSA uses information maintained in the systems; and

(3) A proposed new routine use disclosure in each system providing for the release of information to employers to assist SSA in collecting delinquent debts owed to the Agency from the disposable pay of the debtors described above.

All of the proposed alterations are discussed in the SUPPLEMENTARY INFORMATION section below. We invite public comment on this proposal.

DATES: We filed a report of the proposed new routine use disclosures with the Chairman of the Senate Committee on Homeland Security and Governmental Affairs, the Chairman of the House Committee on Government Reform, and the Director, Office of Information and Regulatory Affairs, Office of Management and Budget (OMB) on February 22, 2005. The proposed altered systems of records, including the proposed new routine use respective to those systems, will become effective on April 3, 2005, unless we receive comments warranting them not to become effective.

ADDRESSES: Interested individuals may comment on this publication by writing to the Executive Director, Office of Public Disclosure, Office of the General Counsel, Social Security Administration, Room 3-A-6 Operations Building, 6401 Security Boulevard, Baltimore, Maryland 21235-6401. All comments received will be available for public inspection at the above address.

FOR FURTHER INFORMATION: Contact Joan Peddicord, Social Insurance Specialist, Strategic Issues Team, Office of Public Disclosure, Office of the General Counsel, Social Security Administration, in Room 3-A-6 Operations Building, 6401 Security Boulevard, Baltimore, Maryland 21235-6401, telephone at (410) 966-6491, e-mail: joan.peddicord@ssa.gov.

SUPPLEMENTARY INFORMATION:

I. Background and Purpose of the Proposed Alterations to the Recovery of Overpayments, Accounting and Reporting System and the Supplemental Security Income Record and Special Veterans Benefits System

A. General Background

Administrative wage garnishment (AWG) is authorized by the Debt Collection Improvement Act (DCIA) of 1996. Section 31001(o)(1) of Public Law 104-134 (1996) amended Chapter 37, subchapter II of Title 31, United States Code by adding section 3720D to permit Federal agencies to use AWG to recover overdue debts. SSA will use AWG to collect program overpayments arising under the Title II and Title XVI programs owed by former beneficiaries and representative payees of Social Security payments and former recipients of SSI payments. SSA plans to use AWG to collect delinquent debts owed to the Agency from the disposable pay of the debtor by sending a non-judicial order to his or her employer.

SSA is developing AWG as an automated system. Using automated routines, SSA will identify Title II and Title XVI debtors who meet the criteria for AWG. SSA will send an automated notice to the debtors informing them about the planned action, providing them with opportunity to repay the debt and avoid AWG, and also providing them with their due process rights. If the debtor does not respond to the notice, SSA will launch AWG no sooner than 60 days after the date of the notice. SSA will launch AWG by sending the non-judicial garnishment order to the last known employer of the debtor. The garnishment order directs the employer to withhold 15 percent of the debtor's disposable wages consistent with the DCIA and send them to SSA each payday as payment toward the delinquent debt. AWG will generally continue until the debt is repaid or disposed of in some other way.

B. Discussion of Proposed Alterations to the Recovery of Overpayments, Accounting and Reporting System and the Supplemental Security Income Record and Special Veterans Benefits System

1. Expansion of the Categories of Individuals Covered by the Recovery of Overpayments, Accounting and Reporting System and the Supplemental Security Income Record and Special Veterans Benefits System

We are adding one new category of individuals to the Recovery of Overpayments, Accounting and Reporting system and the Supplemental Security Income Record and Special Veterans Benefits system: Former beneficiaries and representative payees of Social Security payments and former recipients of SSI payments who received an overpayment and have a delinquent debt to the SSA. See the “Categories of individuals covered by the system” section in the Recovery of Overpayments, Accounting and Reporting system and the Supplemental Security Income Record and Special Veterans Benefits system notices below for the inclusion of this additional category of individuals and a full description of the information maintained therein.

2. Additional Use of Information in the Recovery of Overpayments, Accounting and Reporting System and the Supplemental Security Income Record and Special Veterans Benefits System

We are expanding the purposes for which we use the information maintained in the Recovery of Overpayments, Accounting and Reporting system and the Supplemental Security Income Record and Special Veterans Benefits system to include use of the information by SSA's central office personnel involved in identifying individuals who meet the criteria for AWG and who will effectuate the operational processes necessary to collect the overpayments.

II. Proposed New Routine Use Disclosure of Data Maintained in the Recovery of Overpayments, Accounting and Reporting System and the Supplemental Security Income Record and Special Veterans Benefits System

A. Establishment of New Routine Use

We are proposing to establish a new routine use which allows disclosure of information maintained in the Recovery of Overpayments, Accounting and Reporting system and the Supplemental Security Income Record and Special Veterans Benefits system to employers to assist SSA in collecting delinquent debts owed to the Agency from the disposable pay of the debtor. As described above, these debtors are former beneficiaries and representative payees of Social Security payments and former recipients of SSI payments who received an overpayment and owe a delinquent debt to the SSA.

The new routine use in the Recovery of Overpayments, Accounting and Reporting system, numbered 8, provides for disclosure of information and is proposed as follows:

“To employers to assist SSA in the collection of debts owed by former beneficiaries and representative payees of Social Security payments who received an overpayment and owe a delinquent debt to SSA. Disclosure under this routine use is authorized under the Debt Collection Improvement Act of 1996 (Pub. L. 104-134) and implemented through administrative wage garnishment provisions of this Act (31 U.S.C. 3720D).”

The new routine use in the Supplemental Security Income Record and Special Veterans Benefits system, numbered 37, provides for disclosure of information and is proposed as follows:

“To employers to assist SSA in the collection of debts owed by former recipients of Supplemental Security Income (SSI) payments who received an overpayment and owe a delinquent debt to SSA. Disclosure under this routine use is authorized under the Debt Collection Improvement Act of 1996 (Pub. L. 104-134) and implemented through administrative wage garnishment provisions of this Act (31 U.S.C. 3720D).”

B. Compatibility of Proposed New Routine Use Disclosure

The Privacy Act (5 U.S.C. 552a(a)(7) and (b)(3)) and SSA's disclosure regulation (20 CFR part 401) permit us to disclose information under a published routine use for a purpose that is compatible with the purpose for which we collected the information. Section 401.150(c) of the regulations permits us to disclose information under a routine use where necessary to carry out SSA programs or assist other agencies in administering similar programs. The proposed new routine use in each of these two systems will assist SSA in administering administrative wage garnishment as authorized by the DCIA of 1996. Thus, the proposed new routine use disclosure is appropriate and meets the relevant statutory and regulatory criteria.

III. Effect of the Proposed Alterations and New Routine Use Disclosure on the Rights of Individuals

The proposed alterations and new routine use disclosure to the Recovery of Overpayments, Accounting and Reporting System and the Supplemental Security Income Record and Special Veterans Benefits system pertain to SSA's responsibilities in collecting, maintaining, and disclosing information about individuals who are former Social Security beneficiaries and representative payees and former SSI recipients who owe a delinquent debt to the SSA which the Agency may collect under the AWG as authorized by the DCIA of 1996. We will adhere to all applicable statutory requirements, including those under the Social Security Act and the Privacy Act, in carrying out our responsibilities. Therefore, we do not anticipate that the proposed alterations and new routine use disclosure will have an unwarranted adverse effect on the right of individuals.

IV. Minor Housekeeping Changes to the Notice of the Recovery of Overpayments, Accounting and Reporting System and the Supplemental Security Income Record and Special Veterans Benefits System

Authority for Maintenance of the System—We have revised this section of the notice of the Recovery of Overpayments, Accounting and Reporting system and the Supplemental Security Income Record and Special Veterans Benefits system by adding reference to the DCIA of 1996, which authorizes collection of Federal agency debt through administrative wage garnishment.

Dated: February 22, 2005.
Jo Anne B. Barnhart,
Commissioner.

System Number:

60-0094.

System name:

Recovery of Overpayments, Accounting and Reporting, Social Security Administration, Office of Retirement and Survivors Insurance Systems.

Security classification:

None.

System location:

Social Security Administration, Office of Telecommunications and Systems Operations, 6401 Security Boulevard, Baltimore, MD 21235.

PSCs (See Appendix A for PSC address information).

Social Security Administration, Office of Disability Operations, 1500 Woodlawn Drive, Baltimore, MD 21241.

Lists of overpaid individuals, which are produced by this computer system, are maintained at each of SSA's field offices. (See Appendix F to this publication for address and telephone information.)

Categories of individuals covered by the system:

Social Security beneficiaries and former beneficiaries who may have received an overpayment of benefits; persons holding conserved (accumulated) funds received on behalf of a Social Security beneficiary; and persons who received Social Security payments on behalf of a beneficiary and were overpaid or who are suspected to have misused those payments.

Categories of records in the system:

Identifying characteristics of each overpayment or instance of misused or conserved funds (e.g., name, SSN and address of the individual(s) involved, recovery efforts made and the date of each action, and planned future actions).

Authority for maintenance of the system:

Section 204(a) of the Social Security Act (42 U.S.C. 404(a)) and the Debt Collection Improvement Act (DCIA) of 1996 (Pub. L. 104-134) and implementing provisions of the DCIA for administrative wage garnishment (31 U.S.C. 3720D).

Purpose(s):

The users of this system are employees of the Social Security field offices, as well as selected personnel of SSA's Program Service Centers (PSC) and the Office of Disability Operations (ODO). The data are used to maintain control of overpayments and misused or conserved funds from the time of discovery to the final resolution and for the proper adjustments of payment and refund amounts. Data adjustments produce accounting and statistical reports at specified intervals. The users of this system also include central office personnel involved in identifying individuals who meet the criteria for administrative wage garnishment and who will effectuate the operational processes necessary to collect the overpayments.

Routine uses of records maintained in the system, including categories of users and the purposes of such uses:

Disclosure may be made for routine uses as indicated below. However, disclosure of any information constituting tax “returns or return information” within the scope of the Internal Revenue Code will not be made unless disclosure is authorized by that statute.

(1) To a congressional office in response to an inquiry from that office made at the request of the subject of a record.

(2) To the Office of the President for the purpose of responding to an individual pursuant to an inquiry received from that individual or a third party on his/her behalf.

(3) To third party contacts such as private collection agencies and credit reporting agencies under contract with SSA and State motor vehicle agencies for the purpose of their assisting SSA in recovering overpayments.

(4) Information may be disclosed to contractors and other Federal agencies, as necessary, for the purpose of assisting SSA in the efficient administration of its programs. We contemplate disclosing information under this routine use only in situations in which SSA may enter a contractual or similar agreement with a third party to assist in accomplishing an agency function relating to this system of records.

(5) Non-tax return information which is not restricted from disclosure by Federal law may be disclosed to the General Services Administration (GSA) and the National Archives and Records Administration (NARA) for the purpose of conducting records management studies with respect to their duties and responsibilities under 44 U.S.C. 2904 and 2906, as amended by the NARA Act of 1984.

(6) To the Department of Justice (DOJ), a court or other tribunal, or another party before such tribunal when:

(a) SSA, or any component thereof; or

(b) any SSA employee in his/her official capacity; or

(c) any SSA employee in his/her individual capacity where DOJ (or SSA where it is authorized to do so) has agreed to represent the employee; or

(d) the United States or any agency thereof where SSA determines that the litigation is likely to affect the operations of SSA or any of its components,

is a party to litigation or has an interest in such litigation, and SSA determines that the use of such records by DOJ, the court or other tribunal is relevant and necessary to the litigation, provided, however, that in each case, SSA determines that such disclosure is compatible with the purpose for which the records were collected.

Wage and other information which are subject to the disclosure provisions of the IRC (26 U.S.C. 6103) will not be disclosed under this routine use unless disclosure is expressly permitted by the IRC.

(7) To student volunteers and other workers, who technically do not have the status of Federal employees, when they are performing work for SSA as authorized by law, and they need access to personally identifiable information in SSA records in order to perform their assigned Agency functions.

(8) To employers to assist SSA in the collection of debts owed by former beneficiaries and representative payees of Social Security payments who received an overpayment and owe a delinquent debt to the SSA. Disclosure under this routine use is authorized under the Debt Collection Improvement Act of 1996 (Pub. L. 104-134) and implemented through administrative wage garnishment provisions of this Act (31 U.S.C. 3720 D).

Disclosure to Consumer Reporting Agencies:

Disclosure pursuant to 5 U.S.C. 5520(b)(12) may be made to consumer reporting agencies as defined in the Fair Credit Reporting Act (15 U.S.C. 1681a(f)) or the Federal Claims Collection Act of 1966 as amended (31 U.S.C. 3701, et seq.) or the Social Security Domestic Employment Reform Act of 1994, Pub. L. 103-387, 42 U.S.C. 404(f). The purpose of this disclosure is to aid in the collection of outstanding debts owed to the Federal government, typically, to provide an incentive for debtors to repay delinquent Federal government debts by making these part of their credit records. Disclosure of records is limited to the individual's name, address, SSN, and other information necessary to establish the individual's identity; the amount, status, and history of the claim and the Agency or program under which the claim arose. The disclosure will be made only after the procedural requirements of 31 U.S.C. 3711(e) have been followed.

Policies and practices for storing, retrieving, accessing, retaining and disposing of records in the system:

Storage:

Records are maintained in magnetic cartridges, microfiche and paper form.

Retrievability:

Records are retrieved by SSN.

Safeguards:

System security for automated records has been established in accordance with the Systems Security Handbook. This includes maintaining automated records in a secured building, the SSA National Computer Center, and limiting access to the building to employees who have a need to enter in the performance of their official duties. Paper and other non-ADP records are protected through standard security measures (e.g., maintenance of the records in buildings which are manned by armed guards). (See Appendix G for additional information relating to safeguards SSA employs to protect personal information.)

Retention and disposal:

Magnetic cartridges are updated daily and retained for 75 days. The magnetic cartridges produced in the last operation of the month are retained in security storage for a period of 75 days, after which the tapes are erased and returned to stock. The microfiche records are updated monthly, retained for 3 years after the month they are produced, and then destroyed by application of heat.

System manager(s) and address:

Director, Office of Retirement and Survivors Insurance Systems, Division of Title II Payments and Accounting, Social Security Administration, 6401 Security Boulevard, Baltimore, Maryland 21235.

Notification procedure:

An individual can determine if this system contains a record about him/her by contacting the appropriate processing office (e.g., PSC, ODO or the most convenient Social Security field office). (See Appendices A and F to this publication for address information), by writing to the systems manager(s) at the above address and providing his/her name, SSN or other information that may be in the system of records that will identify him/her. An individual requesting notification of records in person should provide the same information, as well as provide an identity document, preferably with a photograph, such as a driver's license or some other means of identification, such as a voter registration card, credit card, etc. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth along with one other piece of information such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40).

Record access procedures:

Same as notification procedures. Also, requesters should reasonably specify the record contents they are seeking. These procedures are in accordance with SSA Regulations (20 CFR 401.40(c)).

Contesting record procedures:

Same as notification procedures. Requesters should also reasonably identify the record, specify the information they are contesting and state the corrective action sought and the reasons for the correction with supporting justification showing how the record is untimely, incomplete, inaccurate or irrelevant. These procedures are in accordance with SSA Regulations (20 CFR 401.65(a)).

Record source categories:

The information for the computer files is received directly from beneficiaries, from Social Security field offices, and as the result of earnings enforcement operations. The paper listings are updated as a result of the computer operations.

Systems exempted from certain provisions of the Privacy Act:

None.

System number:

60-0103.

System name:

Supplemental Security Income Record and Special Veterans Benefits, Social Security Administration, Office of Systems, Office of Disability and Supplemental Security Income Systems (ODSSIS).

Security classification:

None.

System location:

Social Security Administration, Office of Telecommunications and Systems Operations, 6401 Security Boulevard, Baltimore, MD 21235.

Records also may be located in the Social Security Administration (SSA) Regional and field offices (individuals should consult their local telephone directories for address information).

Categories of individuals covered by the system:

This file contains a record for each individual who has applied for Supplemental Security Income (SSI) payments, including individuals who have requested an advance payment; SSI recipients and former SSI recipients who have been overpaid; and ineligible persons associated with an SSI recipient. This file also covers those individuals who have applied for and who are entitled to the Special Veterans Benefits (SVB) under Title VIII of the Social Security Act. (This file does not cover applicants who do not have a Social Security number (SSN).)

Categories of records in the system:

This file contains data regarding SSI eligibility; citizenship; residence; Medicaid eligibility; eligibility for other benefits; alcoholism or drug addiction data, if applicable (disclosure of this information may be restricted by 21 U.S.C. 1175 and 42 U.S.C. 290dd-3 and ee-3); income data; resources; payment amounts, including the date and amount of advance payments; overpayment amounts, including identifying characteristics of each overpayment (e.g., name, SSN, address of the individual(s) involved, recovery efforts made and the date of each action and planned future actions); and date and amount of advance payments; living arrangements; case folder location data; appellate decisions, if applicable; SSN used to identify a particular individual, if applicable; information about representative payees, if applicable; and a history of changes to any of the persons who have applied for SSI payments. For eligible individuals, the file contains basic identifying information, income and resources (if any) and, in conversion cases, the State welfare number.

This file also contains information about applicants for SVB.

The information maintained in this system of records is collected from the applicants for Title VIII SVB, and other systems of records maintained by SSA. The information maintained includes a data element indicating this is a Title VIII SVB claim. It will also include: identifying information such as the applicant's name, Social Security number (SSN) and date of birth (DOB); telephone number (if any); foreign and domestic addresses; the applicant's sex; income data, payment amounts (including overpayment amounts); and other information provided by the applicant relative to his or her entitlement for SVB.

If the beneficiary has a representative payee, this system of records includes data about the representative payee such as the payee's SSN; employer identification number, if applicable; and mailing address.

Authority for maintenance of the system:

Sections 1602, 1611, 1612, 1613, 1614, 1615, 1616, 1631, 1633, 1634 of title XVI and title VIII of the Social Security Act (42 U.S.C. 1382, 1382a, 1382b, 1382c, 1382d, 1382e, 1383, 1383b, 1383c and the Debt Collection Improvement Act of 1996 (Pub. L. 104-134) and implementing provisions of this Act for administrative wage garnishment (31 U.S.C. 3720D).

Purpose(s):

SSI records begin in Social Security field offices where an individual or couple files an application for SSI payments. SVB records begin in Social Security field offices and Veterans Affairs Regional Offices (VARO) where an individual files an application for SVB payments. The SSI and SVB applications contain data which may be used to prove the identity of the applicant, to determine his/her eligibility for SSI or SVB payments and, in cases where eligibility is determined, to compute the amount of the payment. Information from the application, in addition to data used internally to control and process SSI and SVB cases, is used to create the Supplemental Security Income Record (SSR). The SSR also is used as a means of providing a historical record of all activity on a particular individual's or couple's record. Data from these records will also be used to identify the individuals who meet the criteria for administrative wage garnishment and to effectuate the operational processes necessary to collect the overpayments.

In addition, statistical data are derived from the SSR for actuarial and management information purposes.

Routine uses of records maintained in the system, including categories of users and the purposes of such uses:

Disclosure may be made for routine uses as indicated below. However, disclosure of any information defined as tax “returns or return information” under 26 U.S.C. 6103 of the Internal Revenue Code (IRC) will not be made unless authorized by a statute, the Internal Revenue Service (IRS), or IRS regulations.

1. To the Department of the Treasury to prepare SSI, Energy Assistance, and SVB checks to be sent to claimants or beneficiaries.

2. To the States to establish the minimum income level for computation of State supplements.

3. To the following Federal and State agencies to prepare information for verification of benefit eligibility under section 1631(e) of the Social Security Act: Bureau of Indian Affairs; Office of Personnel Management; Department of Agriculture; Department of Labor; U.S. Citizenship and Immigration Services; Internal Revenue Service; Railroad Retirement Board; State Pension Funds; State Welfare Offices; State Worker's Compensation; Department of Defense; United States Coast Guard; and Department of Veterans Affairs.

4. To a congressional office in response to an inquiry from that office made at the request of the subject of a record.

5. To the appropriate State agencies (or other agencies providing services to disabled children) to identify Title XVI eligibles under the age of 16 for the consideration of rehabilitation services in accordance with section 1615 of the Act, 42 U.S.C. 1382d.

6. To contractors under contract to SSA or under contract to another agency with funds provided by SSA for the performance of research and statistical activities directly relating to this system of records.

7. To State audit agencies for auditing State supplementation payments and Medicaid eligibility consideration.

8. To State agencies to effect and report the fact of Medicaid eligibility of Title XVI recipients in the jurisdiction of those States which have elected Federal determinations of Medicaid eligibility of Title XVI eligibles and to assist the States in administering the Medicaid program.

9. To State agencies to identify Title XVI eligibles in the jurisdiction of those States which have not elected Federal determinations of Medicaid eligibility in order to assist those States in establishing and maintaining Medicaid rolls and in administering the Medicaid program.

10. To State agencies to enable those agencies which have elected Federal administration of their supplementation programs to monitor changes in applicant/recipient income, special needs, and circumstances.

11. To State agencies to enable those agencies which have elected to administer their own supplementation programs to identify SSI eligibles in order to determine the amount of their monthly supplementary payments.

12. To State agencies to enable them to assist in the effective and efficient administration of the SSI program.

13. To State agencies to enable those which have an agreement with SSA to carry out their functions with respect to Interim Assistance Reimbursement pursuant to section 1631(g) of the Social Security Act.

14. To State agencies to enable them to locate potentially eligible individuals and to make eligibility determinations for extensions of social services under the provisions of Title XX of the Social Security Act.

15. To State agencies to assist them in determining initial and continuing eligibility in their income maintenance programs and for investigation and prosecution of conduct subject to criminal sanctions under these programs.

16. To the United States Postal Service for investigating the alleged theft, forgery or unlawful negotiation of SSI and SVB checks.

17. To the Department of the Treasury for investigating the alleged theft, forgery or unlawful negotiation of SSI and SVB checks.

18. To the Department of Education for determining the eligibility of applicants for Basic Educational Opportunity Grants.

19. To Federal, State or local agencies (or agents on their behalf) for administering cash or non-cash income maintenance or health maintenance programs (including programs under the Social Security Act). Such disclosures include, but are not limited to, release of information to:

(a) The Department of Veterans Affairs (DVA) upon request for determining eligibility for, or amount of, DVA benefits or verifying other information with respect thereto in accordance with 38 U.S.C. 5106;

(b) the RRB for administering the Railroad Unemployment Insurance Act;

(c) State agencies to determine eligibility for Medicaid;

(d) State agencies to locate potentially eligible individuals and to make determinations of eligibility for the food stamp program;

(e) State agencies to administer energy assistance to low income groups under programs for which the States are responsible; and

(f) Department of State and its agents to assist SSA in administering the Social Security Act in foreign countries, the American Institute on Taiwan and its agents to assist in administering the Social Security Act in Taiwan, the VA, Philippines Regional Office and its agents to assist in administering the Social Security Act in the Philippines, and the Department of Interior and its agents to assist in administering the Social Security Act in the Northern Mariana Islands.

20. To IRS, Department of the Treasury, as necessary, for the purpose of auditing SSA's compliance with safeguard provisions of the Internal Revenue Code (IRC) of 1986, as amended.

21. To the Office of the President for the purpose of responding to an individual pursuant to an inquiry received from that individual or a third party on his/her behalf.

22. Upon request, information on the identity and location of aliens may be disclosed to the DOJ (Criminal Division, Office of Special Investigations) for the purpose of detecting, investigating and, where necessary, taking legal action against suspected Nazi war criminals in the United States.

23. To third party contacts such as private collection agencies and credit reporting agencies under contract with SSA and State motor vehicle agencies for the purpose of their assisting SSA in recovering overpayments.

24. To contractors and other Federal agencies, as necessary, for the purpose of assisting SSA in the efficient administration of its programs. We contemplate disclosing information under this routine use only in situations in which SSA may enter a contractual or similar agreement with a third party to assist in accomplishing an Agency function relating to this system of records.

25. Non-tax return information which is not restricted from disclosure by Federal law may be disclosed to the General Services Administration (GSA) and the National Archives and Records Administration (NARA) under 44 U.S.C. 2904 and 2906, as amended by the NARA Act of 1984, for the use of those agencies in conducting records management studies.

26. To the Department of Justice (DOJ), a court or other tribunal, or another party before such tribunal when:

(a) SSA, or any component thereof, or

(b) any SSA employee in his/her official capacity; or

(c) any SSA employee in his/her individual capacity where DOJ (or SSA where it is authorized to do so) has agreed to represent the employee; or

(d) the United States or any agency thereof where SSA determines that the litigation is likely to affect the operations of SSA or any of its components,

is a party to litigation or has an interest in such litigation, and SSA determines that the use of such records by DOJ, a court or other tribunal, or another party before such tribunal is relevant and necessary to the litigation, provided, however, that in each case, SSA determines that such disclosure is compatible with the purpose for which the records were collected.

Disclosure of any information defined as tax “returns or return information” under 26 U.S.C. 6103 of the Internal Revenue Code (IRC) will not be made unless authorized by a statute, the Internal Revenue Service (IRS), or IRS regulations.

27. To representative payees, when the information pertains to individuals for whom they serve as representative payees, for the purpose of assisting SSA in administering its representative payment responsibilities under the Act and assisting the representative payees in performing their duties as payees, including receiving and accounting for benefits for individuals for whom they serve as payees.

28. To third party contacts (e.g., employers and private pension plans) in situations where the party to be contacted has, or is expected to have, information relating to the individual's capability to manage his/her affairs or his/her eligibility for, or entitlement to, benefits under the Social Security program when:

(a) The individual is unable to provide information being sought. An individual is considered to be unable to provide certain types of information when:

(i) He/she is incapable or of questionable mental capability;

(ii) he/she cannot read or write;

(iii) he/she cannot afford the cost of obtaining the information;

(iv) he/she has a hearing impairment, and is contacting SSA by telephone through a telecommunications relay system operator;

(v) a language barrier exists; or

(vi) the custodian of the information will not, as a matter of policy, provide it to the individual; or

(b) The data are needed to establish the validity of evidence or to verify the accuracy of information presented by the individual, and it concerns one or more of the following:

(i) His/her eligibility for benefits under the Social Security program;

(ii) The amount of his/her benefit payment; or

(iii) Any case in which the evidence is being reviewed as a result of suspected fraud, concern for program integrity, quality appraisal, or evaluation and measurement activities.

29. To the Rehabilitation Services Administration (RSA) for use in its program studies of, and development of enhancements for, State vocational rehabilitation programs. These are programs to which applicants or beneficiaries under Titles II and or XVI of the Social Security Act may be referred. Data released to RSA will not include any personally identifying information (such as names or SSNs).

30. Addresses of beneficiaries who are obligated on loans held by the Secretary of Education or a loan made in accordance with 20 U.S.C. 1071, et seq. (the Robert T. Stafford Student Loan Program) may be disclosed to the Department of Education as authorized by section 489A of the Higher Education Act of 1965.

31. To student volunteers and other workers, who technically do not have the status of Federal employees, when they are performing work for SSA as authorized by law, and they need access to personally identifiable information in SSA records in order to perform their assigned Agency functions.

32. To Federal, State, and local law enforcement agencies and private security contractors, as appropriate, if information is necessary:

(a) To enable them to protect the safety of SSA employees and customers, the security of the SSA workplace and the operation of SSA facilities, or

(b) To assist investigations or prosecutions with respect to activities that affect such safety and security or activities that disrupt the operation of SSA facilities.

33. Corrections to information that resulted in erroneous inclusion of individuals in the Death Master File (DMF) may be disclosed to recipients of erroneous DMF information.

34. Information as to whether an individual is alive or deceased may be disclosed pursuant to section 1106(d) of the Social Security Act (42 U.S.C. 1306(d)), upon request, for purposes of an epidemiological or similar research project, provided that:

(a) SSA determines in consultation with the Department of Health and Human Services, that the research may reasonably be expected to contribute to a national health interest; and

(b) The requester agrees to reimburse SSA for the costs of providing the information; and

(c) The requester agrees to comply with any safeguards and limitations specified by SSA regarding re-release or re-disclosure of the information.

35. Disclosure may be made to a Federal, State, or congressional support agency (e.g., Congressional Budget Office and the Congressional Research Staff in the Library of Congress) for research, evaluation, or statistical studies. Such disclosures include, but are not limited to, release of information in assessing the extent to which one can predict eligibility for Supplemental Security Income (SSI) payments or Social Security disability insurance (SSDI) benefits; examining the distribution of Social Security benefits by economic and demographic groups and how these differences might be affected by possible changes in policy; analyzing the interaction of economic and non-economic variables affecting entry and exit events and duration in the Title II Old Age, Survivors, and Disability Insurance and the Title XVI SSI disability programs; and analyzing retirement decisions focusing on the role of Social Security benefit amounts, automatic benefit recomputation, the delayed retirement credit, and the retirement test, if SSA:

a. Determines that the routine use does not violate legal limitations under which the record was provided, collected, or obtained;

b. Determines that the purpose for which the proposed use is to be made:

(i) Cannot reasonably be accomplished unless the record is provided in a form that identifies individuals;

(ii) Is of sufficient importance to warrant the effect on, or risk to, the privacy of the individual which such limited additional exposure of the record might bring;

(iii) There is reasonable probability that the objective of the use would be accomplished;

(iv) Is of importance to the Social Security program or the Social Security beneficiaries or is for an epidemiological research project that relates to the Social Security program or beneficiaries;

c. Requires the recipient of information to:

(i) Establish appropriate administrative, technical, and physical safeguards to prevent unauthorized use or disclosure of the record and agree to on-site inspection by SSA's personnel, its agents, or by independent agents of the recipient agency of those safeguards;

(ii) Remove or destroy the information that enables the individual to be identified at the earliest time at which removal or destruction can be accomplished consistent with the purpose of the project, unless the recipient receives written authorization from SSA that it is justified, based on research objectives, for retaining such information;

(iii) Make no further use of the records except:

(a) Under emergency circumstances affecting the health and safety of any individual following written authorization from SSA;

(b) For disclosure to an identified person approved by SSA for the purpose of auditing the research project;

(iv) Keep the data as a system of statistical records. A statistical record is one which is maintained only for statistical and research purposes and which is not used to make any determination about an individual;

d. Secures a written statement by the recipient of the information attesting to the recipient's understanding of, and willingness to abide by, these provisions.

36. To the social security agency of a foreign country, for the purpose of verifying Social Security numbers, to carry out the purposes of an international social security agreement entered into between the United States and the other country, pursuant to section 233 of the Social Security Act (42 U.S.C. 433).

37. To employers to assist SSA in the collection of debts owed by former recipients of SSI payments who received an overpayment and owe a delinquent debt to the SSA. Disclosure under this routine use is authorized under the Debt Collection Improvement Act of 1996 (Pub. L. 104-134) and implemented through administrative wage garnishment provisions of this Act (31 U.S.C. 3720D).

Disclosure to Consumer Reporting Agencies:

Disclosure pursuant to 5 U.S.C. 552a(b)(12) may be made to consumer reporting agencies as defined in the Fair Credit Reporting Act (15 U.S.C. 1681a(f)) or the Federal Claims Collection Act of 1966 (31 U.S.C. 3701, et seq.) as amended. The disclosure will be made in accordance with 31 U.S.C. 3711(e) when authorized by sections 204(f), 808(e) or 1631(b)(4) of the Social Security Act (42 U.S.C. 404(f), 1008(e) or 1383(b)(4)). The purpose of this disclosure is to aid in the collection of outstanding debts owed the Federal government, typically, to provide an incentive for debtors to repay delinquent Federal government debts by making these debts part of their credit records. The information to be disclosed is limited to the individual's name, address, SSN, and other information necessary to establish the individual's identity; the amount, status, and history of the debt and the Agency or program under which the debt arose.

Policies and practices for storing, retrieving, accessing, retaining and disposing of records in the system:

Storage:

Records are maintained in magnetic media (e.g., magnetic tape) and in microform and microfiche form.

Retrievability:

Records are indexed and retrieved by SSN.

Safeguards:

Systems security for automated records has been established in accordance with the Systems Security Handbook. This includes maintaining all magnetic tapes and magnetic disks within an enclosure attended by security guards. Anyone entering or leaving that enclosure must have special badges which are only issued to authorized personnel. All authorized personnel having access to the magnetic records are subject to the penalties of the Privacy Act. The microfiche are stored in locked cabinets, and are accessible to employees only on a need-to-know basis. All SSR State Data Exchange records are protected in accordance with agreements between SSA and the respective States regarding confidentiality, use, and re-disclosure.

Retention and disposal:

Original input transaction tapes received which contain initial claims and posteligibility actions are retained indefinitely although these are processed as received and incorporated into processing tapes which are updated to the master SSR tape file on a monthly basis. All magnetic tapes appropriate to SSI information furnished to specified Federal, State, and local agencies for verification of eligibility for benefits and under section 1631(e) are retained, in accordance with the PA accounting requirements, for at least 5 years or the life of the record, whichever is longer.

System manager(s) and address(es):

Associate Commissioner, Office of Disability and Supplemental Security Income Systems (ODSSIS), Social Security Administration, 6401 Security Boulevard, Baltimore, Maryland 21235.

Notification procedures:

An individual can determine if this system contains a record about him/her by writing to or visiting any Social Security field office and providing his or her name and SSN. (Individuals should consult their local telephone directories for Social Security office address and telephone information.) Applicants for SVB who reside in the Philippines should contact VARO, Philippines. (Furnishing the SSN is voluntary, but it will make searching for an individual's record easier and prevent delay.)

An individual requesting notification of records in person should provide the same information, as well as provide an identity document, preferably with a photograph, such as a driver's license or some other means of identification. If an individual does not have any identification documents sufficient to establish his/her identity, the individual must certify in writing that he/she is the person claimed to be and that he/she understands that the knowing and willful request for, or acquisition of, a record pertaining to another individual under false pretenses is a criminal offense.

If notification is requested by telephone, an individual must verify his/her identity by providing identifying information that parallels the record to which notification is being requested. If it is determined that the identifying information provided by telephone is insufficient, the individual will be required to submit a request in writing or in person. If an individual is requesting information by telephone on behalf of another individual, the subject individual must be connected with SSA and the requesting individual in the same phone call. SSA will establish the subject individual's identity (his/her name, SSN, address, date of birth and place of birth along with one other piece of information such as mother's maiden name) and ask for his/her consent in providing information to the requesting individual.

If a request for notification is submitted by mail, an individual must include a notarized statement to SSA to verify his/her identity or must certify in the request that he/she is the person claimed to be and that he/she understands that the knowing and willful request for, or acquisition of, a record pertaining to another individual under false pretenses is a criminal offense. These procedures are in accordance with SSA Regulations (20 CFR 401.40).

Record access procedures:

Same as Notification procedures. Requesters should also reasonably specify the record contents being sought. An individual who requests notification of, or access to, a medical record shall, at the time he or she makes the request, designate in writing a responsible representative who will be willing to review the record and inform the subject individual of its contents at the representative's discretion. A parent or guardian who requests notification of, or access to, a minor's medical record shall at the time he or she makes the request designate a physician or other health professional (other than a family member) who will be willing to review the record and inform the parent or guardian of its contents at the physician's or health professional's discretion. These procedures are in accordance with SSA Regulations (20 CFR 401.40(c) and 401.55)).

Contesting record procedures:

Same as Notification procedures. Requesters should also reasonably identify the record, specify the information they are contesting and state the corrective action sought and the reasons for the correction with supporting justification showing how the record is incomplete, untimely, inaccurate or irrelevant. These procedures are in accordance with SSA Regulations (20 CFR 401.65(a)).

Record source categories:

Data contained in the SSR are obtained for the most part from the applicant for SSI and SVB payments and are derived from the Claims Folders System, 60-0089 and the Modernized Supplemental Security Income Claims System. The States and other Federal agencies such as the Department of Veterans Affairs also provide data affecting the SSR.

Systems exempted from certain provisions of the Privacy Act:

None.

[FR Doc. 05-4094 Filed 2-2-05; 8:45 am]

BILLING CODE 4191-02-P